NUCLEAR REGULATORY COMMISSION

[Docket No. NRC-2011-0250]

Agency Information Collection Activities: Proposed Collection; Comment Request

AGENCY: Nuclear Regulatory Commission.

ACTION: Notice of pending NRC action to submit an information collection request to the Office of Management and Budget and solicitation of public comment; correction.

SUMMARY: This document corrects a notice appearing in the Federal Register on November 28, 2011 (76 FR 72983). This action is necessary to correct an erroneous NRC Web site for submission of public comments.

FOR FURTHER INFORMATION CONTACT: Tremaine Donnell, NRC Clearance Officer, Office of Information Services, Nuclear Regulatory Commission, Washington, DC 20555-0001, telephone: (301) 415-6258; email: Tremaine.Donnell@nrc.gov.

SUPPLEMENTARY INFORMATION: On page 72984, in the second column, the NRC Web site is changed from http://www.nrc.gov/public-involve/doc-omment/omb/index.html to read http://www.nrc.gov/public-involve/doc-comment/omb/index.html.

Dated at Rockville, Maryland, this 6th day of December 2011.
For the Nuclear Regulatory Commission.
Tremaine Donnell,
NRC Clearance Officer, Office of Information Services.

[FR Doc. 2011-31849 Filed 12-12-11; 8:45 am]

BILLING CODE 7590-01-P